DEPARTMENT OF JUSTICE

Executive Office for Immigration Review

[OMB Number 1125-0002]

Agency Information Collection Activities: Proposed Collection; Comments Requested

ACTION: 60-Day Notice of Information Collection Under Review: Notice of Appeal from a Decision of an Immigration Judge.

The Department of Justice (DOJ), Executive Office for Immigration Review (EOIR) will be submitting the following information collection request to the Office of Management and Budget (OMB) for review and approval in accordance with the Paperwork Reduction Act of 1995. The proposed information collection is published to obtain comments from the public and affected agencies. Comments are encouraged and will be accepted for “sixty days” until November 14, 2008. This process is conducted in accordance with 5 CFR 1320.10.

If you have comments especially on the estimated public burden or associated response time, suggestions, or need a copy of the proposed information collection instrument with instructions or additional information, please contact John N. Blum, Acting General Counsel, Executive Office for Immigration Review, U.S. Department of Justice, Suite 2600, 5107 Leesburg Pike, Falls Church, Virginia, 22041; telephone: (703) 305-0470.

Written comments and suggestions from the public and affected agencies concerning the proposed collection of information are encouraged. Your comments should address one or more of the following four points:

—Evaluate whether the collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Revision of a currently approved collection.

(2) Title of the Form/Collection: Notice of Appeal from a Decision of an Immigration Judge.

(3) Agency form number, if any, and the applicable component of the Department of Justice sponsoring the collection: Form EOIR-26, Executive Office for Immigration Review, United States Department of Justice.

(4) Affected public who will be asked or required to respond, as well as a brief abstract: Primary: A party (either the U.S. Immigration and Customs Enforcement of the Department of Homeland Security or the respondent/applicant) who appeals a decision of an Immigration Judge to the Board of Immigration Appeals (Board). Other: None. Abstract: A party affected by a decision of an Immigration Judge may appeal that decision to the Board, provided that the Board has jurisdiction pursuant to 8 CFR 1003.1(b). An appeal from an Immigration Judge’s decision is taken by completing the Form EOIR-26 and submitting it to the Board.

(5) An estimate of the total number of respondents and the amount of time estimated for an average respondent to respond: It is estimated that 23,417 respondents will complete the form annually with an average of thirty minutes per response.

(6) An estimate of the total public burden (in hours) associated with the collection: There are an estimated 11,708.5 total burden hours associated with this collection annually.

If additional information is required, contact: Lynn Bryant, Department Clearance Officer, United States Department of Justice, Justice Management Division, Policy and Planning Staff, Patrick Henry Building, Suite 1600, 601 D Street, NW., Washington, DC 20530.

Dated: September 9, 2008.
Lynn Bryant,
Department Clearance Officer, PRA, United States Department of Justice.

[FR Doc. E8-21444 Filed 9-12-08; 8:45 am]

BILLING CODE 4410-30-P